DEPARTMENT OF AGRICULTURE

Rural Utilities Service

7 CFR Part 1774

Special Evaluation Assistance for Rural Communities and Households Program (SEARCH)

AGENCY: Rural Utilities Service, USDA.

ACTION: Correcting amendment.

SUMMARY: On June 24, 2010, the Rural Utilities Service (RUS) issued a final rule to establish the regulation for the Special Evaluation Assistance for Rural Communities and Households Program (SEARCH) as authorized by Section 306(a) of the Consolidated Farm and Rural Development Act (CONACT). Following final implementation of this final rule, RUS found that the wording for the definition of a rural area is inconsistent with the statute. This document corrects the final regulation.

DATES: Effective February 13, 2019.

FOR FURTHER INFORMATION CONTACT: LaVonda Pernell, Acting Branch Chief, Portfolio Management Branch, Water and Environmental Programs, Rural Utilities Service, U.S. Department of Agriculture, 1400 Independence Ave. SW, Washington, DC 20250. Telephone: (202) 202-720-9635; email: LaVonda.Pernell@wdc.usda.gov.

SUPPLEMENTARY INFORMATION:

Need for Correction

On June 24, 2010 (75 FR 35963), the Rural Utilities Service (RUS) issued a final rule to establish the regulation for the Special Evaluation Assistance for Rural Communities and Households Program (SEARCH) (7 CFR part 1774) as authorized by Section 306(a) of the Consolidated Farm and Rural Development Act (CONACT) 7 U.S.C. 1926(a)(2)). Inadvertently, the wording for the definition of rural area, as it applies to the SEARCH program, was incorrectly recorded in the final regulation and is inconsistent with the statute. This document corrects the final regulation.

List of Subjects in 7 CFR Part 1774

Community development, Grant programs, Reporting and recordkeeping requirement, Rural areas, Waste treatment and disposal, Water supply.

Accordingly, 7 CFR part 1774 is amended by making the following correcting amendment:

PART 1774—SPECIAL EVALUATION ASSISTANCE FOR RURAL COMMUNITIES AND HOUSEHOLDS PROGRAM (SEARCH)

1. The authority citation for part 1774 continues to read as follows:

Authority: 7 U.S.C. 1926(a)(2)(C).

2. Amend § 1774.2 by revising the definition of “Rural area” to read as follows:

§ 1774.2 Definitions.

* * * * *

Rural area. For the purposes of this SEARCH program, any communities in a city, town, or unincorporated area with populations of 2,500 or fewer inhabitants, according to the most recent decennial Census of the United States (decennial Census).

* * * * *

Dated: December 20, 2018.
Bette B. Brand,
Acting Administrator, Rural Utilities Service.

[FR Doc. 2019-02106 Filed 2-12-19; 8:45 am]

BILLING CODE P